DEPARTMENT OF THE INTERIOR

Fish and Wildlife Service

Notice of Availability of a Draft Recovery Plan for the Quino Checkerspot Butterfly for Review and Comment

AGENCY: Fish and Wildlife Service, Interior.

ACTION: Notice of document availability.

SUMMARY: We, the U.S. Fish and Wildlife Service (Service) announce the availability for public review of a draft recovery plan for the Quino checkerspot butterfly (Euphydryas editha quino). The Quino checkerspot butterfly represents a subspecies that is currently restricted primarily to clay and granitic soils at lower elevation slopes typically below 1400 meters (4600 feet) in open scrub, chaparral, and woodland communities. The populations addressed in this recovery plan are found in western Riverside County and southern San Diego County proximal to the Mexico international border. The Service solicits review and comment from local, State, and Federal agencies, and the public on this draft recovery plan.

DATES: Comments on the draft recovery plan must be received on or before March 26, 2001 to receive consideration by the Service.

ADDRESSES: The draft recovery plan is available for public inspection by appointment during normal business hours at the Service's Carlsbad Fish and Wildlife Office, 2730 Loker Avenue West, Carlsbad, California, 92008. Persons wishing to review the draft recovery plan may obtain a copy by contacting the Field Supervisor (attention Jim Bartel) at the above address or by calling (760) 431-9440. Comments and materials should be submitted to the above address and are available on request for public inspection by appointment at the Carlsbad Fish and Wildlife Office.

FOR FURTHER INFORMATION CONTACT: Alison Anderson at the Service's Carlsbad Fish and Wildlife Office, 2730 Loker Avenue West, Carlsbad, California, 92008. Telephone: (760) 431-9440.

SUPPLEMENTARY INFORMATION:

Background

Restoring an endangered or threatened animal or plant to the point where it is again a secure, self-sustaining member of its ecosystem is a primary goal of the Service's Endangered Species Program. Recovery plans describe actions considered necessary for conservation of the species, establish criteria for the recovery levels for downlisting and delisting species, and estimate time and cost for implementing the recovery measures needed.

The Endangered Species Act of 1973, as amended (Act) (16 U.S.C. 1531 et seq.) requires the development of recovery plans for listed species unless such a plan would not promote the conservation of a particular species. Section 4(f) of the Act, as amended in 1988, requires that public notice and an opportunity for public review and comment be provided during recovery plan development. The Service will consider all information presented during a public comment period prior to approval of each new or revised recovery plan. The Service and other Federal agencies will also take these comments into account in the course of implementing approved recovery plans. Individual responses to comments will not be provided

The Quino checkerspot is found in association with topographically diverse landscapes that contain low to moderate levels of non-native vegetation. Vegetation types that support the Quino checkerspot are coastal sage scrub, open chaparral, juniper woodland, forblands, and native grassland. Soil and climatic conditions, as well as ecological and physical factors, affect the suitability of habitat within the species' range. Urban and agricultural development, invasion of non-native species, habitat fragmentation and degradation, increased fire frequency, and other human-caused disturbances have resulted in substantial losses of habitat throughout the species' historic range. Conservation needs include protection and management of suitable and restorable habitat; habitat restoration and enhancement; and establishment of Quino checkerspot captive breeding program. This plan identifies six Recovery Units. Recovery Units are geographically bounded areas containing extant Quino checkerspot populations that are the focus of recovery actions or tasks. Recovery Units include lands both essential and not essential to the long-term conservation of the Quino checkerspot.

The overall objective of this recovery plan is to reclassify the Quino checkerspot to threatened and ensure the species' long-term conservation. Interim goals include (1) protect habitat supporting known current population distributions (habitat complexes), and (2) stabilize populations within known population distributions (described habitat complexes), and (3) conduct research necessary to refine recovery criteria. Reclassification is appropriate when a taxon is no longer in danger throughout a significant portion of its range.

Downlisting of the Quino checkerspot butterfly in southern California is contingent upon the following criteria: (1) Permanently protect habitat patches supporting known extant population distributions (habitat complexes) and possible landscape connectivity areas among them, (2) Permanently provide for and implement management of described habitat complexes to restore habitat quality, including maintenance of hostplant populations, maintenance of diverse nectar sources and pollinators, control of non-native plant invasion, and maintenance of internal landscape connectivity, (3) Establish and maintain a captive propagation program for purposes of re-introduction and augmentation of wild populations, maintenance of refugia populations, and research, (4) Initiate and implement a cooperative educational outreach program targeting areas where Quino checkerspot populations are most threatened, (5) Two additional populations or metapopulations must be documented or introduced in the remaining undeveloped coastal areas of the Quino checkerspot's historic range, (6) The managed, protected population or metapopulation segments within currently described habitat complexes must demonstrate stability (constancy or resilience) without augmentation, and (7) conduct research needed to refine management strategies and to develop delisting criteria.

The draft plan was developed with primary contributions from a recovery team of scientists from the University of California at Riverside, the University of California at Los Angeles, RECON Inc. (San Diego), the University of Nevada at Reno, and the University of Texas (Austin) with expertise in different aspects of Euphydryas editha biology.

Public Comments Solicited

The Service solicits written comments on the recovery plan described. All comments received by the date specified above will be considered prior to approval of this plan.

Authority: The authority for this action is section 4(f) of the Endangered Species Act, 16 U.S.C. 1533(f).

Dated: January 11, 2001.
Michael J. Spear,
Manager, California/Nevada Operations Office, Region 1, U.S. Fish and Wildlife Service.

[FR Doc. 01-3370 Filed 2-6-01; 1:16 pm]

BILLING CODE 4310-55-P